ENVIRONMENTAL PROTECTION AGENCY

40 CFR Part 63

[CARB-106-DELb; FRL-7600-6]

Delegation of National Emission Standards for Hazardous Air Pollutants for Source Categories; State of California

AGENCY: Environmental Protection Agency (EPA).

ACTION: Proposed rule.

SUMMARY: EPA is proposing to delegate to several California air pollution control agencies the authority to implement and enforce national emision standards for hazardous air pollutants as they apply to non-major sources.

DATES: Any comments on this proposal must arrive by January 20, 2004.

ADDRESSES: Send comments to Andrew Steckel, Rulemaking Office Chief (AIR-4), U.S. Environmental Protection Agency, Region IX, 75 Hawthorne Street, San Francisco, CA 94105-3901, or e-mail to steckel.andrew@epa.gov, or submit comments at http://www.regulations.gov. Copies of the requests for delegation and other supporting documentation are available for public inspection (docket number A-96-25) at the Region IX office during normal business hours by appointment. Copies are also available at: Air and Radiation Docket and Information Center (6102), U.S. Environmental Protection Agency, Ariel Rios Bldg, 1200 Pennsylvania Ave, NW., Washington, DC 20460.

FOR FURTHER INFORMATION CONTACT: Mae Wang, EPA Region IX, (415) 947-4124, wang.mae@epa.gov.

SUPPLEMENTARY INFORMATION: Pursuant to section 112(l) of the 1990 Clean Air Act, EPA is proposing to delegate national emission standards for hazardous air pollutants as they apply to non-major sources to the following local air pollution control agencies in California: Antelope Valley Air Quality Management District, Butte County Air Quality Management District, Kern County Air Pollution Control District, Mendocino County Air Quality Management District, Mojave Desert Air Quality Management District, Monterey Bay Unified Air Pollution Control District, San Luis Obispo County Air Pollution Control District, Ventura County Air Pollution Control District, and Yolo-Solano Air Quality Management District. In the Rules and Regulations section of this Federal Register, we are approving these delegations in a direct final action without prior proposal because we believe these delegations are not controversial. If we receive adverse comments, however, we will publish a timely withdrawal of the direct final rule and address the comments in a subsequent action based on this proposed rule. Please note that if we receive adverse comments on an amendment, paragraph, or section of this rule and if that provision may be severed from the remainder of the rule, we may adopt as final those provisions of the rule that are not the subject of an adverse comment.

We do not plan to open a second comment period, so anyone interested in commenting should do so at this time. If we do not receive adverse comments, no further activity is planned. For further information, please see the direct final action.

Dated: December 2, 2003.
Matt Haber,
Acting Director, Air Division, Region IX.

[FR Doc. 03-31349 Filed 12-18-03; 8:45 am]

BILLING CODE 6560-50-P